DEPARTMENT OF HOMELAND SECURITY

Office of the National Protection and Programs Directorate Submission for Reinstatement of a Previously Approved Collection OMB Control Number 1670-0005

AGENCY: Office of the National Protection and Programs Directorate, DHS.

ACTION: 30-day notice and request for comments; Reinstatement of a previously approved information collection OMB Control Number 1670-0005.

SUMMARY: The Department of Homeland Security (DHS) invites the general public and other federal agencies the opportunity to comment on approved information collection request (ICR) OMB 1670-0005, Telecommunications Service Priority (TSP) System. As required by the Paperwork Reduction Act of 1995. The information collection was previously published in the Federal Register on January 25, 2008 at 73 FR 4613 allowing for a 60-day public comment period. No comments were received on this existing information collection. The purpose of this notice is to allow an additional 30 days for public comments.

DATES: Written comments should be received on or before May 5, 2008 to be assured consideration.

ADDRESSES: Interested persons are invited to submit written comments on the proposed information collection to the Office of Information and Regulatory Affairs, Office of Management Budget, 725 17th Street, NW., Washington, DC, 20503, Attention: Nathan Lesser, Desk Officer, Department of Homeland Security/NPPD or sent via electronic mail to oira_submission@omb.eop.gov or faxed to (202) 395-6974.

FOR FURTHER INFORMATION CONTACT: A copy of this ICR, with applicable supporting documentation, may be obtained by contacting Nathan Lesser, Desk Officer, Office of Information and Regulatory Affairs, Office of Management Budget, 725 17th Street, NW., Washington, DC, 20503, or via electronic mail to oira_submission@omb.eop.gov.

SUPPLEMENTARY INFORMATION: The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Telecommunications Service Priority (TSP) System.

OMB Number: 1670-0005.

Frequency: On occasion.

Affected Public: Individuals or households; businesses or other for-profit; not-for-profit institutions; State, local or tribal government; foreign government.

Estimated Number of Respondents: 28,161.

SF314 Revalidation for Service Users: 304.

SF315 Request for Service Users: 27,000.

SF317 Action Appeal for Service Users: 1.

SF318 Service Confirmation for Service Vendors: 428.

SF319 Service Reconciliation for Service Vendors: 428.

Estimated Time per Respondent:

SF314 Revalidation for Service Users: 45 minutes.

SF315 Request for Service Users: 15 minutes.

SF317 Action Appeal for Service Users: 25 minutes.

SF318 Service Confirmation for Service Vendors: 45 minutes.

SF319 Service Reconciliation for Service Vendors: 1.0 Hour.

Total Burden Hours: 7,727.25.

SF314 Revalidation for Service Users: 228 hours.

SF315 Request for Service Users: 6,750 hours.

SF317 Action Appeal for Service Users: 25 minutes.

SF318 Service Confirmation for Service Vendors: 321 hours.

SF319 Service Reconciliation for Service Vendors: 428 hours.

Total Burden Cost: (capital/startup): $0.

Total Burden Cost: (operating/maintaining): $0.

Description: The Telecommunications Service Priority (TSP) System provide telecommunications service vendors a means of identifying the services that should be restored or provisioned first in the event of an emergency or crisis; and the legal protection giving a preference to certain users over others. This critical aspect of the TSP program benefits government at all levels as well as the general public.

Dated: March 28, 2008.
Matt Coose,
Acting Chief Information Officer, National Protection and Programs Directorate, Department of Homeland Security.

[FR Doc. E8-7081 Filed 4-3-08; 8:45 am]

BILLING CODE 4410-10-P